DEPARTMENT OF TRANSPORTATION

Pipeline and Hazardous Materials Safety Administration

[Docket No. PHMSA-2013-0181]

Pipeline Safety: Request for Special Permit

AGENCY: Pipeline and Hazardous Materials Safety Administration (PHMSA), DOT.

ACTION: Notice.

SUMMARY: Pursuant to the Federal pipeline safety laws, PHMSA is publishing this notice to announce the availability for review of an Environmental Assessment for a special permit request we have received from Fairbanks Natural Gas, LLC (FNG) for a facility in Fairbanks, Alaska. FNG is seeking relief from compliance with certain requirements in the Federal pipeline safety regulations. This notice seeks public comments on the Environmental Assessment, including comments on any safety or environmental impacts. The Environmental Assessment is available for review at http://www.Regulations.gov. At the conclusion of the 30-day comment period, PHMSA will evaluate the comments and determine whether to grant or deny the associated special permit request.

DATES: Submit any comments regarding this special permit request by March 27, 2014.

ADDRESSES: Comments should reference the docket number for the specific special permit request and may be submitted in the following ways:

• E-Gov Web site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE., Washington, DC 20590.

• Hand Delivery: Docket Management System: U.S. Department of Transportation, Docket Operations, M-30, West Building Ground Floor, Room W12-140, 1200 New Jersey Avenue SE., Washington, DC 20590, between 9:00 a.m. and 5:00 p.m., Monday through Friday, except Federal holidays.

Instructions: You should identify the docket number for the Environmental Assessment and related special permit request you are commenting on at the beginning of your comments. If you submit your comments by mail, please submit two copies. To receive confirmation that PHMSA has received your comments, please include a self-addressed stamped postcard. Internet users may submit comments at http://www.Regulations.gov.

Note: Comments are posted without changes or edits to http://www.Regulations.gov, including any personal information provided. There is a privacy statement published on http://www.Regulations.gov.

FOR FURTHER INFORMATION CONTACT: General: Kay McIver by telephone at 202-366-0113, or email at Kay.McIver@dot.gov.

Technical: Joseph Sieve by telephone at 202-366-5064 email at Joseph.Sieve@dot.gov.

SUPPLEMENTARY INFORMATION: On July 2, 2013, PHMSA received a request from FNG seeking relief from 49 CFR 193.2155 for its construction of a 125,000 barrel liquid natural gas single containment storage tank at its existing storage and vaporization facility at 2942 Tria Road in Fairbanks, Alaska. The request included a technical analysis provided by the operator and was filed at http://www.Regulations.gov under assigned docket number PHMSA-2013-0181. On August 26, 2013, through a Federal Register notice, PHMSA invited interested persons to participate by reviewing the special permit request at http://www.Regulations.gov and submitting written comments, data, or other views. No public comments were received in response to this publication.

To further evaluate the special permit request, PHMSA is publishing this notice to announce the availability of an Environmental Assessment prepared for the special permit area noted in FNG's request. Please include any comments on potential environmental impacts that may result if this special permit is granted. Before acting on this special permit request, PHMSA will evaluate all comments received on or before the comments closing date. Comments will be evaluated after this date if it is possible to do so without incurring additional expense or delay. PHMSA will consider each relevant comment we receive in making our decision to grant or deny a request.

Authority: 49 U.S.C. 60118 (c)(1) and 49 CFR 1.53.

Issued in Washington, DC, on February 19, 2014.
Jeffrey D. Wiese,
Associate Administrator for Pipeline Safety.

[FR Doc. 2014-03981 Filed 2-24-14; 8:45 am]

BILLING CODE 4910-60-P